DEPARTMENT OF THE INTERIOR

National Park Service

Temporary Concession Contract for Lake Chelan National Recreation Area, WA

AGENCY: National Park Service, Department of the Interior.

ACTION: Notice of proposed award of temporary concession contract for the Lake Chelan National Recreation Area, WA.

SUMMARY: Pursuant to 36 CFR 51.24, public notice is hereby given that the National Park Service proposes to award a temporary concession contract for the conduct of certain visitor services within Lake Chelan National Recreation Area, Washington for a term not-to-exceed 3 years. The visitor services include overnight accommodations, food and beverage, retail, fuel, and transportation services. This action is necessary to avoid interruption of visitor services.

DATES: The term of the temporary concession contract will commence (if awarded) no earlier than March 1, 2009.

SUPPLEMENTARY INFORMATION: The temporary concession contract is proposed to be awarded to Stehekin Adventure, LLC, a qualified person. Stehekin Adventure, LLC, also is the incumbent concessioner, who operated all visitor services, after a sale and transfer was completed in 2006, under Concession Contract CC-LACH003-94. The 1998 Concessions Management Improvement Act provides by its terms that, to avoid interruption of services to visitors, the National Park Service may award non-competitively a temporary contract to perform such services for a term not-to-exceed 3 years in aggregate. 16 U.S.C. 5952(11). Because this temporary contract will not exceed 3 years, this action complies with the provisions of this statutory provision.

The National Park Service issued a prospectus on March 21, 2008, closing on June 4, 2008, for solicitation of a new 10-year concession contract; however, no proposals were received. The National Park Service has determined that a temporary contract is necessary in order to avoid interruption of visitor services and has taken all reasonable and appropriate steps to consider alternatives to avoid an interruption of visitor services.

This action is issued pursuant to 36 CFR 51.24(b). This is not a request for proposals.

Dated: February 3, 2009.
Ernest Quintana,
Acting Deputy Director, Operations.

[FR Doc. E9-4540 Filed 3-2-09; 8:45 am]

BILLING CODE 4310-70-P